ENVIRONMENTAL PROTECTION AGENCY

[FRL-8754-2]

National Advisory Council for Environmental Policy and Technology

AGENCY: Environmental Protection Agency (EPA).

ACTION: Request for Nominations to the National Advisory Council for Environmental Policy and Technology (NACEPT).

SUMMARY: The U.S. Environmental Protection Agency (EPA) invites nominations from a diverse range of qualified candidates to be considered for appointment to the National Advisory Council for Environmental Policy and Technology (NACEPT). It is anticipated that vacancies will be filled by late spring 2009. Additional sources may be utilized in the solicitation of nominees.

Background: NACEPT is a federal advisory committee chartered under the Federal Advisory Committee Act (FACA), Public Law 92463. EPA established NACEPT in 1988 to provide independent advice to the EPA Administrator on a broad range of environmental policy, technology and management issues. Members serve as representatives from academia, industry, non-governmental organizations, and state, local, and tribal governments. Members are appointed by the EPA Administrator for two year terms with the possibility of reappointment. The Council usually meets 3 times annually and the average workload for the members is approximately 10 to 15 hours per month. Members serve on the Council in a voluntary capacity. However, EPA provides reimbursement for travel expenses associated with official government business. EPA is seeking nominations from all sectors, including academia, industry, non-governmental organizations, and state, local and tribal governments. Nominees will be considered according to the mandates of FACA, which requires committees to maintain diversity across a broad range of constituencies, sectors, and groups.

The following criteria will be used to evaluate nominees:

—Extensive professional knowledge of environmental policy, management, and technology issues.

—Demonstrated ability to examine and analyze environmental issues with objectivity and integrity.

—Senior-level experience that fills a current need on the Council.

—Excellent interpersonal, oral and written communication, and consensus-building skills.

—Ability to volunteer approximately 10 to 15 hours per month to the Council's activities, including participation on teleconference meetings and preparation of text for Council reports and advice letters.

Nominations must include a resume and a short biography describing the professional and educational qualifications of the nominee, as well as the nominee's current business address, e-mail address, and daytime telephone number. Interested candidates may self-nominate.

ADDRESSES: Submit nominations to: Sonia Altieri, Designated Federal Officer, Office of Cooperative Environmental Management, U.S. EPA (1601M), 1200 Pennsylvania Avenue NW., Washington, DC 20460. You may also e-mail nominations to altieri.sonia@epa.gov.

FOR FURTHER INFORMATION CONTACT: Sonia Altieri, Designated Federal Officer, U.S. EPA; telephone (202) 564-0243; fax: (202) 564-8129; e-mail altieri.sonia@epa.gov.

Dated: December 5, 2008.
Sonia Altieri,
Designated Federal Officer.

[FR Doc. E8-30087 Filed 12-18-08; 8:45 am]

BILLING CODE 6560-50-M